DEPARTMENT OF TRANSPORTATION

National Highway Traffic Safety Administration

[Docket No. NHTSA 2000-7354; Notice 2]

Honda Motor Co., Ltd.; Grant of Application for Temporary Exemption From Federal Motor Vehicle Safety Standard No. 123

We are granting the application by Honda Motor Co. Ltd. (“Honda”), a Japanese corporation, through American Honda Motor Co., Inc., of Torrance, California, for a temporary exemption of two years from a requirement of S5.2.1 (Table 1) of Federal Motor Vehicle Safety Standard No. 123 Motorcycle Controls and Displays. The basis of the request was that “compliance with the standard would prevent the manufacturer from selling a motor vehicle with an overall safety level at least equal to the overall safety level of nonexempt vehicles,” 49 U.S.C. 30113(b)(3)(B)(iv).

On May 18, 2000, we published a notice of receipt of the application in accordance with the requirements of 49 U.S.C. 30113(b)(2), and asked for comments (65 FR 31629). We received many comments in support, as discussed below.

Honda applied on behalf of its NSS250 motor scooters. The scooters are defined as “motorcycles” for purposes of compliance with the Federal motor vehicle safety standards. If a motorcycle is produced with rear wheel brakes, S5.2.1 of Standard No. 123 requires that the brakes be operable through the right foot control (the left handlebar is permissible only for a motor driven cycle (Item 11, Table 1), i.e., a motorcycle with a motor that produces 5 brake horsepower or less).

Honda asked that it be allowed to use the left handlebar as the control for the rear brakes of its NSS250, which is a motorcycle and not a motor driven cycle. The model features an automatic transmission that eliminates the left-hand clutch lever as well as any left-foot gearshift lever. This leaves the left hand of the rider free to operate a brake lever. In Honda's opinion, “removal of the left-handlebar clutch lever, left-foot-controlled gearshift lever and right-foot-controlled rear brake pedal result in simpler operation.” Honda pointed out that NHTSA exempted three other motorcycle manufacturers from this requirement of S5.2.1. in 1999 (Aprilia, 64 FR 44262; Vectrix, 64 FR 45585; and Italjet, 64 FR 58127).

Honda argued that the overall level of safety of the scooters equals or exceeds that of a motorcycle that complies with the brake control location requirement of Standard No. 123. Unlike the other exempted motorcycles, the NSS250 is equipped with a “combined brake system” which “provides single-point, front- and rear-wheel braking action.” The vehicle meets the braking performance requirements “of both FMVSS 122 and ECE78.” The company submitted test results demonstrating that the braking performance of the NSS250 with its combined brake system is better than that of a scooter without the combined brake system. For the second effectiveness test, for example, the NSS250 stopped in shorter distances than a Honda model equipped with a foot brake, that is to say, from a maximum speed of 65.4 mph in 165 feet (compared with 178 feet), and, from 30 mph, in 38 feet (compared with 40 feet).

Honda has developed the NSS250 for the world market. In Europe, Japan, and other Asian countries, scooters are equipped with handlebar-mounted front and rear brakes. Absent an exemption, then, Honda said that it will be unable to sell the NSS250 in the United States. The cost to conform the NSS250 to comply with Standard No. 123 “would add considerable cost to the product” and result in a motorcycle that would not be competitive.

Honda will not sell more than 2,500 scooters a year while an exemption is in effect. It argued that an exemption would be in the public interest and consistent with the objectives of traffic safety because “the level of safety is equal to similar vehicles certified under FMVSS No. 123.”

We received approximately 40 comments, all of which urged us to grant the application. Typical of the comments are those from Richard A. Smith of Orem, Utah, Brian Hotaling of Austin, Texas, and Deb Lee of Carriere, Mississippi. Mr. Hotaling adduces that Honda's tests show that its “simple yet innovative combined braking system is better” than that of a scooter without it, and that “the NSS250 stopped in shorter distances than a Honda model equipped with a foot brake by a remarkable amount.” Mr. Smith recommended that “this exemption should be allowed on a permanent basis,” and that “given the recent prices of gasoline in our country and the environmental concerns over air pollution in our cities * * * Honda should be allowed to import more than 2500 of these vehicles.” Ms. Lee recommends an amendment to Standard No. 123, and comments that the Honda product “could be used by many senior citizens and Americans with disabilities.”

As Honda noted in its petition, we have exempted three other motorcycle manufacturers from S5.2.1 (Aprilia, 64 FR 44262, re-issued at 65 FR 1225; Vectrix, 64 FR 45585; and Italjet, 64 FR 58127). We have reviewed Honda's brake test results demonstrating the superiority of the NSS250 with its combined brake system over that of a scooter without such a system. Our concerns about a lack of standardization of the rear brake control for scooter-type vehicles was addressed by Aprilia in its petition which included a report on “Motorscooter Braking Control Study” which is available for examination in Docket No. NHTSA-99-4357. This report indicated that test subjects' brake reaction times using a vehicle much like Honda's were approximately 20% quicker than their reaction times on the conventional motorcycle. We interpreted the report as indicating that a rider's braking response is not likely to be degraded by the different placement of brake controls, and cited it in granting the similar petition by Vectrix. In the present case, the number of favorable comments appear to sustain our previous conclusions.

With respect to the public interest and the objectives of motor vehicle safety, the overall level of safety, as Honda argues, appears at least equal to that of vehicles certified to comply with Standard No. 123. The numerous comments make convincing arguments that an exemption would be in the public interest by making available a compact, fuel-efficient vehicle that would not otherwise be available without an exemption.

In consideration of the foregoing, we hereby find that Honda has met its burden of persuasion that, to require compliance with Standard No. 123 would prevent the manufacturer from selling a motor vehicle with an overall level of safety at least equal to the overall safety level of nonexempt vehicles. We further find that a temporary exemption is in the public interest and consistent with the objectives of motor vehicle safety. Accordingly, Honda Motor Co. Ltd. is hereby granted NHTSA Temporary Exemption No. EX2000-2 from the requirements of item 11, Column 2, Table 1 of 49 CFR 571.123 Standard No. 123 Motorcycle Controls and Displays, that the rear wheel brakes be operable through the right foot control. This exemption applies only to the NSS250, and will expire on November 1, 2002.

(49 U.S.C. 30113; delegations of authority at 49 CFR 1.50)

Issued on November 8, 2000.
Sue Bailey,
Administrator.

[FR Doc. 00-29240 Filed 11-14-00; 8:45 am]

BILLING CODE 4910-59-P